DEPARTMENT OF COMMERCE

International Trade Administration

[A-520-803]

Polyethylene Terephthalate Film, Sheet and Strip From the United Arab Emirates: Extension of Time Limit for Preliminary Results of Antidumping Duty Administrative Review

AGENCY: Import Administration, International Trade Administration, Department of Commerce.

DATES: Effective Date: July 14, 2010.

FOR FURTHER INFORMATION CONTACT: Andrew Huston or Jun Jack Zhao, Import Administration, International Trade Administration, U.S. Department of Commerce, 14th Street and Constitution Avenue, NW., Washington, DC 20230; telephone: (202) 482-4261 and (202) 482-1396, respectively.

Background

On December 23, 2009, the Department of Commerce (the Department) published the initiation of the administrative review of the antidumping duty order on polyethylene terephthalate film, sheet and strip from the United Arab Emirates (UAE) for the period November 06, 2008 through October 31, 2009. See Initiation of Antidumping and Countervailing Duty Administrative Reviews and Requests for Revocation in Part, 74 FR 68229 (December 23, 2009). This review covers two producers and/or exporters of the subject merchandise to the United States: FLEX Middle East FZE (FLEX) and, JBF RAK LLC (JBF).

Extension of Time Limit for the Preliminary Results

Section 751(a)(3)(A) of the Tariff Act of 1930, as amended (the Act), and section 351.213(h)(1) of the Department's regulations require the Department to issue the preliminary results of a review within 245 days after the last day of the anniversary month of the order or suspension agreement for which the administrative review was requested, and final results of the review within 120 days after the date on which the notice of the preliminary results is published in the Federal Register. However, if the Department determines that it is not practicable to complete the review within the aforementioned specified time limits, section 751(a)(3)(A) of the Act and section 351.213(h)(2) of the Department's regulations allow the Department to extend the 245-day period to 365 days and to extend the 120-day period to 180 days.

The Department requires additional time to evaluate the questionnaire responses from FLEX and JBF in order to conduct a thorough analysis of all information on the record, specifically considering the cost and affiliation issues in this case. Therefore, the Department finds that it is not practicable to complete the preliminary results of this review within the original time limit and is extending the deadline for completion of the preliminary results of this administrative review by 120 days.

Additionally, on February 12, 2010, the Department issued a memorandum revising all case deadlines. As explained in the memorandum from the Deputy Assistant Secretary for Import Administration, the Department has exercised its discretion to toll deadlines for the duration of the closure of the Federal Government from February 5 through February 12, 2010. Thus, all deadlines in this segment of the proceeding have been extended by seven days. See Memorandum to the Record from Ronald Lorentzen, DAS for Import Administration, regarding “Tolling of Administrative Deadlines As a Result of the Government Closure During the Recent Snowstorm,” dated February 12, 2010. Therefore, we are hereby extending the deadline for the preliminary results by a total of 127 days; the revised deadline for the preliminary results of this administrative review is now December 07, 2010.

This notice is issued and published pursuant to sections 751(a)(3)(A) and 777(i)(1) of the Act.

Dated: July 7, 2010.
Edward C. Yang,
Acting Deputy Assistant Secretary for Antidumping/Countervailing Duty Operations.

[FR Doc. 2010-17169 Filed 7-13-10; 8:45 am]

BILLING CODE 3510-DS-P